SOCIAL SECURITY ADMINISTRATION

[Docket No: SSA-2022-0044]

Agency Information Collection Activities: Comment Request

The Social Security Administration (SSA) publishes a list of information collection packages requiring clearance by the Office of Management and Budget (OMB) in compliance with Public Law 104-13, the Paperwork Reduction Act of 1995, effective October 1, 1995. This notice includes one new collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Comments: https://www.reginfo.gov/public/do/PRAMain. Submit your comments online referencing Docket ID Number [SSA-2022-0044].

(SSA), Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0044].

SSA submitted the information collection below to OMB for clearance. Your comments regarding this information collection would be most useful if OMB and SSA receive them 30 days from the date of this publication. To be sure we consider your comments, we must receive them no later than September 16, 2022. Individuals can obtain copies of the OMB clearance package by writing to OR.Reports.Clearance@ssa.gov.

1. The National Beneficiary Survey (NBS)—0960-NEW

Background

SSA's Social Security Disability Insurance (SSDI) and SSI programs provide a crucial and necessary income for people with disabilities. By improving employment outcomes for SSDI beneficiaries and SSI recipients, SSA supports the effort to reduce the reliance of people with disabilities on these programs. SSA previously conducted seven rounds of the National Beneficiary Survey (NBS) in 2004, 2005, 2006, 2010, 2015, 2017, and 2019. Conducting the prior rounds of the NBS provided SSA with an important understanding of the work interests and experiences of SSI recipients and SSDI beneficiaries, and helped SSA gain information about their impairments; health; living arrangements; family structure; pre-disability occupation; and use of non-SSA programs (e.g., the Supplemental Nutrition Assistance Program). The prior rounds of NBS data are available to researchers and the public. SSA contracted with Mathematica to conduct the NBS data collection.

NBS Project Description

The primary purpose of the new NBS is to: (1) assess beneficiary well-being and interest in work; (2) learn about beneficiary work experiences (successful and unsuccessful); and (3) identify factors that promote or restrict long-term work success. As with the previous NBS rounds, the current NBS will collect information on factors such as health; living arrangements; family structure; current occupation; use of non-SSA programs; knowledge of SSDI and SSI work incentive programs; obstacles to work; and beneficiary interest and motivation to return to work.

SSA is requesting approval to administer Round 8 of the NBS in 2023. The information we will collect is not something we could obtain from SSA administrative data or other sources. In the Round 8 NBS, the sample design is similar to the ones we used for the prior NBS. The sample includes the nationally representative beneficiary samples (RBS) of adult SSDI and SSI disability program participants, as well as the successful worker sample (SWS) which includes beneficiaries who worked above the substantial gainful activity for at least three consecutive months during the six months preceding their NBS interview. SSA plans to complete 8,000 interviews: 5,000 from a cross-sectional sample of active beneficiaries (SSI and SSDI) and 3,000 from a successful worker sample, and will conduct the survey interviews primarily by telephone. We will send a letter in advance informing the beneficiary that an interviewer will contact them to conduct, or schedule a date and time for the survey. The beneficiary can also contact the 800 number we provide in the sample letter to schedule the interview or take the survey with an interviewer. We will send follow-up letters and postcards reminding the beneficiary to contact us, if they have not already done so, and we will also send postcard messages about establishing the best time for the beneficiary to take the survey.

In addition to the Round 8 NBS, we propose to conduct an experimental web and a paper-based data collection effort to test if these modes are feasible methods to collect data from nonrespondents. SSA will conduct this experiment during the administration of the Round 8 NBS, and we will include a shorter version of the instrument for web and paper administration designed to collect critical data from nonrespondents to the telephone interview modality. We will mail the abbreviated experimental paper version survey to the beneficiaries to complete and send back to Mathematica.

We will pull the sample for the experimental web and paper administration of the NBS from Round 8 SWS nonrespondents. Respondent participation in the NBS is voluntary and the decision to participate has no impact on current or future receipt of payments or benefits. Respondents are current SSDI beneficiaries and SSI recipients.

Type of Request: Request for a new information collection.

Modality of completion | Number of respondents | Frequency of response | Average burden per response (minutes) | Estimated total annual burden (hours) | Average theoretical hourly cost amount (dollars) * | Average wait time for mathematica teleservice centers (minutes) ** | Total annual opportunity cost (dollars) ***
Representative Beneficiary Sample | 5,000 | 1 | 60 | 5,000 | * $11.70 | ** 5 | *** $63,379
Successful Worker Sample | 3,000 | 1 | 70 | 3,500 | * 11.70 | ** 5 | ***43,875
Successful Worker Sample web-based experiment | 125 | 1 | 25 | 52 | * 11.70 |  | *** 608
Successful Worker Sample, paper-based experiment respondent | 100 | 1 | 25 | 42 | * 11.70 |  | *** 491
Totals | 8,225 |  |  | 8,594 |  |  | *** 108,353
* We based this figure on the average DI payments based on SSA's current FY 2022 data (https://www.ssa.gov/legislation/2022factsheet.pdf).
** We based this figure on Mathematica's FY 2022 average wait times for their teleservice centers, based on Mathematica's current management information data.
*** This figure does not represent actual costs that SSA is imposing on recipients of Social Security payments to complete this application; rather, these are theoretical opportunity costs for the additional time respondents will spend to complete the application. There is no actual charge to respondents to complete the application.

Dated: August 11, 2022.
Naomi Sipple,
Reports Clearance Officer, Social Security Administration.

[FR Doc. 2022-17627 Filed 8-16-22; 8:45 am]

BILLING CODE 4191-02-P